DEPARTMENT OF COMMERCE

International Trade Administration

[A-570-909]

Certain Steel Nails From the People's Republic of China: Final Results of the Antidumping Duty Administrative Review and Final Determination of No Shipments; 2020-2021

AGENCY: Enforcement and Compliance, International Trade Administration, Department of Commerce.

SUMMARY: The U.S. Department of Commerce (Commerce) determines that eleven companies subject to this review had no shipments of certain steel nails (nails) from the People's Republic of China (China) during the period of review (POR) August 1, 2020, through July 31, 2021. Further, Commerce finds that any company potentially subject to individual or non-individual examination under this review failed to establish its eligibility for a separate rate and all entries of subject merchandise during the POR are subject to the China-wide entity rate.

DATES: Applicable September 2, 2022.

FOR FURTHER INFORMATION CONTACT: Zachariah Hall, AD/CVD Operations, Office VIII, Enforcement and Compliance, International Trade Administration, U.S. Department of Commerce, 1401 Constitution Avenue NW, Washington, DC 20230; telephone: (202) 482-6261.

SUPPLEMENTARY INFORMATION:

Background

On May 9, 2022, Commerce published the preliminary results of the 2020-2021 administrative review of the antidumping duty order on nails from China ¹ and invited comments from interested parties.² No interested party commented. We preliminarily found that that no company subject to this administrative review has established its eligibility for a separate rate and, therefore, aside from the 11 companies which we found made no shipments of subject merchandise during the POR, Commerce considers all other companies for which a review was requested, and which did not demonstrate separate rate eligibility, to be part of the China-wide entity.

¹ See Certain Steel Nails from the People's Republic of China; 2020-2021: Preliminary Results of the Antidumping Duty Administrative Review and Preliminary Determination of No Shipments; 2020-2021, 87 FR 27564 (May 9, 2022) (Preliminary Results), and accompanying Preliminary Decision Memorandum (PDM).

² See Preliminary Results, 87 FR at 27565-27566.

Scope of the Order

The products covered by the Order ³ are nails from China. For a complete description of the scope, see the Preliminary Decision Memorandum.⁴

³ See Notice of Antidumping Duty Order: Certain Steel Nails from the People's Republic of China, 73 FR 44961 (August 1, 2008) (Order).

⁴ See Preliminary Results PDM at 2-3.

China-Wide Entity

Commerce's policy regarding conditional review of the China-wide entity applies to this administrative review.⁵ Under this policy, the China-wide entity will not be under review unless a party specifically requests, or Commerce self-initiates, a review of the China-wide entity.⁶ Because no party requested a review of the China-wide entity in this review, the China-wide entity is not under review and the China-wide entity's rate (i.e., 118.04 percent) is not subject to change as a result of this review.⁷

⁵ See Antidumping Proceedings: Announcement of Change in Department Practice for Respondent Selection in Antidumping Proceedings and Conditional Review of the Nonmarket Economy Entity in NME Antidumping Duty Proceedings, 78 FR 65963 (November 4, 2013).

⁶ Id.

⁷ See Order.

Final Results of Review

In the Preliminarily Results, Commerce determined that 11 companies under review had no shipments of subject merchandise during the POR.⁸ We received no arguments identifying information that contradicts this determination. Therefore, we continue to find that these companies had no shipments of subject merchandise to the United States during the POR and will issue appropriate liquidation instructions.⁹

⁸ These companies are: Hebei Minmetals Co., Ltd.; Nanjing Caiqing Hardware Co., Ltd.; Nanjing Yuechang Hardware Co., Ltd.; Shandong Qingyun Hongyi Hardware Products Co., Ltd.; Shanxi Hairui Trade Co., Ltd.; Shanxi Pioneer Hardware Industrial Co., Ltd.; S-Mart (Tianjin) Technology Development Co., Ltd.; Suntec Industries Co., Ltd.; Tianjin Jinchi Metal Products Co., Ltd.; Tianjin Jinghai County Hongli Industry & Business Co., Ltd.; and Xi'an Metals & Minerals Import & Export Co., Ltd.

⁹ See Non-Market Economy Antidumping Proceedings: Assessment of Antidumping Duties, 76 FR 65694, 65694-95 (October 24, 2011) (NME Assessment of Duties).

Additionally, in the Preliminary Results, Commerce found that no company subject to this administrative review had established its eligibility for a separate rate. In the Preliminary Results, we found that 15 companies did not submit separate rate applications or certifications, or no-shipment certifications, and two companies that submitted no-shipment certifications failed to respond to the results of our no-shipment inquiry to demonstrate they had no shipments of subject merchandise to the United States during the POR. Therefore, we find that these 17 companies continue not to be eligible for a separate rate and are part of the China-wide entity.¹⁰ See the appendix of this notice for a list of these companies.

¹⁰ See Preliminary Results, 76 FR at 27564, 27565.

For additional details, see the Preliminary Decision Memorandum, which is a public document and is on file electronically via Enforcement and Compliance's Antidumping and Countervailing Duty Centralized Electronic Service System (ACCESS). ACCESS is available to registered users at http://access.trade.gov. In addition, a complete version of the Preliminary Decision Memorandum can be accessed directly at https://access.trade.gov/public/FRNoticesListLayout.aspx.

Assessment Rates

Commerce has determined, and U.S. Customs and Border Protection (CBP) shall assess, antidumping duties on all appropriate entries covered by this review, in accordance with section 751(a)(2)(C) of the Act and 19 CFR 351.212(b). We will instruct CBP to apply an ad valorem assessment rate of 118.04 percent to all entries of subject merchandise during the POR which were exported by the 17 companies in the China-wide entity. In addition, we will instruct CBP to assess any suspended entries of subject merchandise associated with the companies that claimed no shipments of subject merchandise during the POR at the China-wide rate.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for shipments of the subject merchandise from China entered, or withdrawn from warehouse, for consumption on or after the publication date of this notice, as provided by section 751(a)(2)(C) of the Act: (1) for all Chinese exporters of subject merchandise that have not been found to be entitled to a separate rate, the cash deposit rate will be the rate for the China-wide entity (i.e., 118.04 percent); (2) for a previously examined Chinese and non-Chinese exporter that received a separate rate in a prior completed segment of this proceeding, the cash deposit rate will continue to be the existing exporter-specific cash deposit rate; and (3) for all non-Chinese exporters of subject merchandise which have not received their own separate rate, the cash deposit rate will be the rate applicable to the Chinese exporter that supplied that non-Chinese exporter. These cash deposit requirements, when imposed, shall remain in effect until further notice.

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order (APO)

This notice also serves as a reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

This administrative review and notice are issued and published in accordance with sections 751(a)(1) and 777(i)(1) of the Act, 19 CFR 351.213, and 19 CFR 351.221(b)(5).

Dated: August 25, 2022.
Lisa W. Wang,
Assistant Secretary for Enforcement and Comliance.

Appendix—Companies Determined To Be Part of the China-Wide Entity

1. Dezhou Hualude Hardware Products Co., Ltd.

2. Huanghua Jinhai Hardware Products Co. Ltd.

3. Huanghua Xionghua Hardware Products Co., Ltd.

4. Jining Dragon Fasteners Co., Ltd.

5. Jining Huarong Hardware Products Co., Ltd.

6. Jining Yonggu Metal Products Co., Ltd.

7. SDC International Australia Pty. Ltd.

8. Shandong Oriental Cherry Hardware Group Heze Products Co., Ltd.

9. Shandong Oriental Cherry Hardware Import and Export Co., Ltd.

10. Shanghai Curvet Hardware Products Co., Ltd.

11. Shanghai Yueda Nails Industry Co., Ltd., a.k.a. Shanghai Yueda Nails Co., Ltd.

12. Shanxi Tianli Industries Co., Ltd.

13. Tianjin Jishili Hardware Products Co., Ltd.

14. Tianjin Universal Machinery Imp. & Exp. Corporation

15. Tianjin Zhitong Metal Products Co., Ltd.

16. Tianjin Zhonglian Metals Ware Co., Ltd.

17. Zhejiang Gem-Chun Hardware Accessory Co., Ltd.

[FR Doc. 2022-19062 Filed 9-1-22; 8:45 am]

BILLING CODE 3510-DS-P